DEPARTMENT OF COMMERCE

National Oceanic and Atmospheric Administration

[RTID 0648-XD604]

North Pacific Fishery Management Council; Public Meeting

AGENCY: National Marine Fisheries Service (NMFS), National Oceanic and Atmospheric Administration (NOAA), Commerce.

ACTION: Notice of web conference.

SUMMARY: The North Pacific Fishery Management Council (Council) Scientific and Statistical Committee Subgroup (SSC Subgroup) meeting will be held.

DATES: The meeting will be held on Thursday, January 11, 2024, from 11:30 a.m. to 2:30 p.m., Alaska time.

ADDRESSES: The meeting will be a web conference. Join online through the link at https://meetings.npfmc.org/Meeting/Details/3026.

Council address: North Pacific Fishery Management Council, 1007 W 3rd Ave., Suite 400, Anchorage, AK 99501-2252; telephone: (907) 271-2809. Instructions for attending the meeting via video conference are given under SUPPLEMENTARY INFORMATION below.

FOR FURTHER INFORMATION CONTACT: Nicole Watson, Council staff; phone; (907) 271-2809; email: Nicole.watson@noaa.gov. For technical support, please contact our admin Council staff, email: npfmc.admin@noaa.gov.

SUPPLEMENTARY INFORMATION:

Agenda

Thursday, January 11, 2024

The SSC Research Priorities subgroup will be reviewing research priorities to provide recommendations to the SSC at the February 2024 meeting. Research priorities submitted through the new online process that do not clearly fit with expertise available from other NPFMC plan teams will be reviewed. The agenda is subject to change, and the latest version will be posted at https://meetings.npfmc.org/Meeting/Details/3026 prior to the meeting, along with meeting materials.

Connection Information

You can attend the meeting online using a computer, tablet, or smart phone; or by phone only. Connection information will be posted online at: https://meetings.npfmc.org/Meeting/Details/3026.

Public Comment

Public comment letters will be accepted and should be submitted electronically to https://meetings.npfmc.org/Meeting/Details/3026.

Authority: 16 U.S.C. 1801 et seq.

Dated: December 21, 2023.
Alyssa Lynn Weigers,
Acting Deputy Director, Office of Sustainable Fisheries, National Marine Fisheries Service.

[FR Doc. 2023-28520 Filed 12-26-23; 8:45 am]

BILLING CODE 3510-22-P